DEPARTMENT OF COMMERCE

International Trade Administration

Initiation of Antidumping and Countervailing Duty Administrative Reviews

AGENCY: Import Administration, International Trade Administration, Department of Commerce.

ACTION: Notice of Initiation of Antidumping and Countervailing Duty Administrative Reviews.

SUMMARY: The Department of Commerce (the Department) has received requests to conduct administrative reviews of various antidumping and countervailing duty orders and findings with September anniversary dates. In accordance with the Department's regulations, we are initiating those administrative reviews.

EFFECTIVE DATE: October 25, 2005.

FOR FURTHER INFORMATION CONTACT: Sheila E. Forbes, Office of AD/CVD Operations, Office 4, Import Administration, International Trade Administration, U.S. Department of Commerce, 14th Street and Constitution Avenue, N.W., Washington, D.C. 20230, telephone: (202) 482-4697.

SUPPLEMENTARY INFORMATION:

Background

The Department has received timely requests, in accordance with 19 CFR 351.213(b) (2002), for administrative reviews of various antidumping and countervailing duty orders and findings with September anniversary dates.

Initiation of Reviews:

In accordance with sections 19 CFR 351.221(c)(1)(i), we are initiating administrative reviews of the following antidumping and countervailing duty orders and findings. We intend to issue the final results of these reviews not later than September 30, 2006.

Antidumping Duty Proceedings | Period to be Reviewed
CANADA: Certain Softwood Lumber
A-122-838 | 5/1/04 - 4/30/05
Woodwise Lumber Limited¹
LATVIA: Steel Concrete Reinforcing Bars
A-449-804 | 9/1/04 - 8/31/05
Joint Stock Company Liepajas Metalurgs
REPUBLIC OF KOREA: Stainless Steel Wire Rod
A-580-829 | 9/1/04 - 8/31/05
Changwon Specialty Steel Co., Ltd.
Dongbang Specialty Steel Co., Ltd.
REPUBLIC OF KOREA: Steel Concrete Reinforcing Bars
A-580-844 | 9/1/04 - 8/31/05
Dongil Industries Co., Ltd.
Dongkuk Steel Mill Co., Ltd.
Hanbo Iron & Steel Co., Ltd
INIsteel
Kosteel Co., Ltd.
Korea Iron and Steel Company
SWEDEN: Stainless Steel Wire Rod
A-401-806 | 9/1/04 - 8/31/05
Fagersta Stainless AB
TAIWAN: Stainless Steel Wire Rod
A-583-828 | 9/1/04 - 8/31/05
Walsin Lihwa Corporation
THE PEOPLE'S REPUBLIC OF CHINA: Freshwater Crawfish Tail Meat²
A-570-848 | 9/1/04 - 8/31/05
China Kingdom Import & Export Co., Ltd.
aka China Kingdoma Import & Export Co., Ltd.
aka Zhongda Import & Export Co., Ltd.
Jiangsu Hilong International Trading Company, Ltd.
Jiangsu Jiushoutang Organisms-Manufactures Co., Ltd.
Shanghai Sunbeauty Trading Co., Ltd.
Ningbo Nanlian Frozen Foods Company, Ltd.
Qingdao Jinyongxiang Aquatic Foods Co., Ltd.
Qingdao Wentai Trading Co., Ltd.
Qingdao Zhengri Seafood Co., Ltd.
Weishan Zhenyu Foodstuff Co., Ltd.
Xuzhou Jinjiang Foodstuffs Co., Ltd.
Yancheng Haiteng Aquatic Products & Foods Co., Ltd.
Yancheng Hi-King Agriculture Developing Co., Ltd.
Yancheng Yaou Seafood Co., Ltd.
THE PEOPLE'S REPUBLIC OF CHINA: Polyethylene Retail Carrier Bags³
A-570-886 | 8/1/04 - 7/31/05
Ampac Packaging (Nanjing) Co.
Countervailing Duty Proceedings
BRAZIL: Certain Hot-Rolled Flat-Rolled Carbon Quality Steel Products
C-351-829 | 1/1/04 - 12/31/04
Companhia Siderurgica Nacional
Companhia Siderurgica de Tubarao
Usinas Siderurgicas de Minas Gerais
Companhia Siderurgica Paulista
Suspension Agreements
None.
¹ Company inadvertently omitted from initiation notice that published on June 30, 2005 (70 FR 37749).
² If one of the above named companies does not qualify for a separate rate, all other exporters of freshwater crawfish tail meat from the People's Republic of China who have not qualified for a separate rate are deemed to be covered by this review as part of the single PRC entity of which the named exporters are a part. Additionally, for those companies for which we are conducting a new shipper review, this administrative review will only cover entries not covered by those new shipper reviews.
³ Company inadvertently omitted from initiation notice that published on September 28, 2005 (70 FR 56631).

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)) and 19 CFR 351.221(c)(1)(I).

Dated: October 19, 2005.
Holly A. Kuga,
Senior Office Director, AD/CVD Operations, Office 4 for Import Administration.

[FR Doc. E5-5897 Filed 10-24-05; 8:45 am]

BILLING CODE 3510-DS-S